DEPARTMENT OF TRANSPORTATION

Federal Aviation Administration

14 CFR Part 71

[Docket No. FAA-2007-29157; Airspace Docket 07-ASO-23]

Establishment and Removal of Class E Airspace; Centre, AL

AGENCY: Federal Aviation Administration (FAA), DOT.

ACTION: Final rule.

SUMMARY: This action establishes Class E airspace at Centre-Piedmont Cherokee County Airport, (PYP), Centre, AL and removes Class E airspace at Centre Municipal Airport, Centre, AL, (C22). The operating status of the airport will include Instrument Flight Rule (IFR) operations.

DATES: Effective Date: 0901 UTC, June 5, 2008. The Director of the Federal Register approves this incorporation by reference action under title 1, Code of Federal Regulations, part 51, subject to the annual revision of FAA Order 7400.9 and publication of conforming amendments.

FOR FURTHER INFORMATION CONTACT: Melinda Giddens, System Support, Eastern Service Center, Federal Aviation Administration, P.O. Box 20636, Atlanta, Georgia 30320; telephone (404) 305-5610.

SUPPLEMENTARY INFORMATION:

History

On January 29, 2008, the FAA proposed to amend Title 14 Code of Federal Regulations (14 CFR) part 71 by establishing Class E airspace at Centre, AL, (73 FR 5135). This action will provide adequate Class E airspace for IFR operations at the new airport, Centre-Piedmont Cherokee County Airport (PYP), supporting the Area Navigation (RNAV) Global Positioning System (GPS) Standard Instrument Approach Procedures (SIAPs) developed for Runways (RWY) 07-25. Airspace supporting Centre Municipal Airport (C22) is no longer required and through this action will be removed. Class E airspace designations for airspace areas extending upward from 700 feet or more above the surface of the earth are published in Paragraph 6005 of FAA Order 7400.9R, signed August 15, 2007, and effective September 15, 2007, which is incorporated by reference in 14 CFR 71.1. The Class E airspace designation listed in this document would be published subsequently in the Order.

Interested parties were invited to participate in this proposed rulemaking by submitting written comments on the proposal to the FAA. No comments objecting to the proposal were received.

The Rule

The amendment to Title 14, Code of Federal Regulations (14 CFR) part 71 establishes Class E airspace at Centre, AL, to provide controlled airspace required to support the new Area Navigation (RNAV) Global Positioning System (GPS) Rwy 07-25 at Centre-Piedmont Cherokee County Airport (PYP) and remove the Class E airspace at Centre Municipal Airport (C22), Centre, AL.

FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it establishes Class E airspace at Centre, AL.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, and effective September 15, 2007, is amended as follows:

Paragraph 6005 Class E Airspace Areas Extending Upward from 700 feet or More Above the Surface of the Earth.

* * * * *

ASO AL E5 Centre, AL [REMOVE]

Centre Municipal Airport, AL

* * * * *

ASO AL E5 Centre, AL [NEW]

Centre-Piedmont Cherokee County Airport, AL

(Lat. 34°05′24″ N., long. 85°36′36″ W.)

That airspace extending upward from 700 feet above the surface within a 13-mile radius of Centre-Piedmont Cherokee County Airport.

* * * * *

Issued in College Park, Georgia, on April 8, 2008.
Kathy Swann,
Acting Manager, System Support Group, Eastern Service Center, Air Traffic Organization.

[FR Doc. E8-9039 Filed 4-29-08; 8:45 am]

BILLING CODE 4910-13-M